NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by February 24, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2021-008

1. Applicant: Michael Gooseff, 4001 Discovery Dr., Boulder, CO 80303.

Activity for Which Permit is Requested: Enter Antarctic Specially Protected Areas. The applicant and agents would enter ASPA 131, Canada Glacier, Lake Fryxell, to continue operation of a previously installed, continuously recording stream gauge station, perform maintenance, conduct stream flow measurements and collect water quality samples near the stream gauge site. The applicant would collect water quality samples of the melt-water of the Canada Glacier and along the length of the stream to study in-stream biogeochemical processes. The applicant would collect a maximum of five moss samples per year using a 3 cm corer to a depth of about 3 cm and a maximum of five soil samples of approximately 200 g per year from which to extract nematodes. Photography, LIDAR, and other survey and monitoring techniques may be used to detect changes in the stream bed and algal mat distribution over time, and/or to monitor the change in the stream gauge system through time. The applicant and agents would also to enter ASPA 172, Lower Taylor Glacier and Blood Falls, to continue measurements of the Santa Fe Stream including: Stream-flow using velocity meters; pH, temperature, and conductivity via meters; and collection of water quality samples. The collection of water from the Blood Falls area would occur on the glacial moraine, not the glacier itself, and the sample would be small (<1 L) and comprised of both brine reservoir discharge (when present) and surface ice melt-water.

Location: ASPA 131, Canada Glacier, Lake Fryxell, Taylor Valley, Victoria Land; ASPA 172, Lower Taylor Glacier and Blood Falls, Taylor Valley, McMurdo Dry Valleys, Victoria Land; McMurdo Dry Valleys, Antarctica.

Dates of Permitted Activities: February 28, 2021-February 28, 2026.

Permit Application: 2021-009

2. Applicant: Daniel Costa, Ecology and Evolutionary Biology Department, University of California Santa Cruz, 115 McAllister Way, Santa Cruz, CA 95062.

Activity for Which Permit is Requested: Take, Harmful Interference, Enter Antarctic Specially Protected Areas, Import into USA. The applicant proposes to study the foraging behavior, habitat utilization, and physiology of leopard seals, and potentially additional Antarctic seal species, near Cape Shirreff in the Antarctic Peninsula. Additional seal species could include: Crabeater seals, Weddell seals, Antarctic fur seals, Ross seals, and southern elephant seals. The applicant would capture and tag 10-15 seals of each species, in each field season. Seals would be sedated and anesthetized during tagging and biological sample collection procedures. The tags to be attached to the seals with marine epoxy include a combined time-depth recorder and GPS receiver and a separate VHF radio tag. Other procedures would include: Flipper tagging, dye marking, collecting blood samples, measuring blood volume, measuring girth and length, and determining body composition by morphometric measurements. These procedures are currently authorized under National Marine Fisheries Service Marine Mammal Protection Act Permit No. 19439.

Location: ASPA 149, Cape Shirreff, Livingston Island, South Shetland Islands, Antarctic Peninsula.

Dates of Permitted Activities: April 1, 2021-December 31, 2023.

Erika N. Davis,
Program Specialist, Office of Polar Programs.

[FR Doc. 2021-01471 Filed 1-22-21; 8:45 am]

BILLING CODE 7555-01-P